SMALL BUSINESS ADMINISTRATION

Notice Seeking Exemption under Section 312 of the Small Business Investment Act, Conflicts of Interest

Notice is hereby given that BIA Digital Partners SBIC II LP (“Licensee”), 15120 Enterprise Court, Suite 200, Chantilly, VA 20151, a Federal Licensee under the Small Business Investment Act of 1958, as amended (“the Act”), in connection with the financing of a small concern, has sought an exemption under section 312 of the Act and section 107.730, Financings which Constitute Conflicts of Interest, of the Small Business Administration (“SBA”) rules and regulations (13 CFR 107.730). BIA Digital Partners SBIC II LP proposes to provide financing in the form of senior subordinated notes with a 10% warrant option to Hoffman Media, LLC (“Hoffman”), 1900 International Park Drive, Suite 50, Birmingham, AL 35243. The financing will be used to provide liquidity for growth, repayment of existing subordinated debt and purchase of equity from existing shareholders.

This investment requires an exemption from the prohibitions in 13 CFR 107.730, Conflicts of Interest, because Hoffman is an Associate of the Licensee by virtue of the greater than 10 percent ownership interest held by BIA Digital Partners I, LP (“BIA I”).

Notice is hereby given that any interested person may submit written comments on the transaction to the Associate Administrator for Investment, U.S. Small Business Administration, 409 Third Street, SW., Washington, DC 20416.

Dated: November 16, 2006.
Jaime Guzmán-Fournier,
Associate Administrator for Investment.

[FR Doc. E6-19877 Filed 11-22-06; 8:45 am]

BILLING CODE 8025-01-P